BUREAU OF CONSUMER FINANCIAL PROTECTION

No FEAR Act Notice; Notice of Rights and Protections Available Under the Federal Antidiscrimination and Whistleblower Protection Laws

AGENCY: The Bureau of Consumer Financial Protection. ACTION: Notice.

SUMMARY: The Bureau of Consumer Financial Protection (CFPB or the Bureau) is providing notice to its employees, former employees, and applicants for Federal employment about the rights and remedies available to them under the Federal antidiscrimination, whistleblower protection, and retaliation laws. This notice fulfills CFPB's initial notification obligation under the Notification and Federal Employees Antidiscrimination and Retaliation Act (No FEAR Act), as implemented by Office of Personnel Management (OPM) regulations.

FOR FURTHER INFORMATION CONTACT: Liza Strong, Office of Human Capital, 1700 G Street, NW Washington, DC 20037, (202) 435-7655. Additional information can be found on CFPB's Web site at http://www.consumerfinance.gov.

SUPPLEMENTARY INFORMATION: On May 15, 2002, Congress enacted the Notification and Federal Employee Antidiscrimination and Retaliation Act of 2002 (No FEAR Act), Public Law 107-174, 116 Stat. 566 (5 U.S.C. 2301 note). The Act is intended to hold Federal agencies accountable for violations of antidiscrimination and whistleblower protection laws. In support of this purpose, Congress found that “agencies cannot be run effectively if those agencies practice or tolerate discrimination.” Sec. 101(1), Public Law 107-174, 116 Stat. 566. The Act requires CFPB to inform its employees, former employees, and applicants for employment of the rights and protections available under Federal antidiscrimination, whistleblower protection, and retaliation laws. OPM requires agencies to publish the initial notice required by the No FEAR Act in the Federal Register. 5 CFR 724.202.

Antidiscrimination Laws

A Federal agency may not discriminate against an employee or applicant with respect to the terms, conditions, or privileges of employment on the basis of race, color, religion, national origin, sex, (including pregnancy and gender identity), age (40 and above), disability, genetic information, marital status, parental status, sexual orientation, political affiliation, military service, or any other non-merit factor. Discrimination on these bases is prohibited by Federal statutes and Executive Orders. 5 U.S.C. 2302(b)(1); 29 U.S.C. 206(d); 29 U.S.C. 631; 29 U.S.C. 633a; 29 U.S.C. 791; 38 U.S.C. 4301-35; 42 U.S.C. 2000e-16; 42 U.S.C. 2000ff-1; E.O. 13087; E.O. 13145; E.O. 13152.

If you believe that you have been the victim of unlawful discrimination on the basis of race, color, religion, sex, national origin, disability, or genetic information, you must contact an Equal Employment Opportunity (EEO) counselor within 45 calendar days of the alleged discriminatory action, or, in the case of a personnel action, within 45 calendar days of the effective date of the action, before you may file a formal complaint of discrimination with your agency. See, e.g., 29 CFR part 1614.

If you believe that you have been the victim of unlawful discrimination on the basis of age, you must either contact an EEO counselor or give notice of your intent to sue to the Equal Employment Opportunity Commission (EEOC) within 180 calendar days of the alleged discriminatory action.

If you are alleging discrimination based on sexual orientation, marital status, parental status, political affiliation, or any other non-merit factor you may file a written complaint with the U.S. Office of Special Counsel (OSC).

If you are alleging discrimination based on military service, you may request assistance from the Veterans' Employment and Training Service (VETS) at the Department of Labor (DOL), the Merit Systems Protection Board (MSPB), or OSC, depending on the circumstances.

Whistleblower Protection Laws

A Federal employee with authority to take, direct others to take, recommend, or approve a personnel action must not use that authority to take or fail to take, or threaten to take or fail to take, a personnel action against an employee or applicant because of disclosure of information by that individual that is reasonably believed to be evidence of violations of law, rule or regulation; gross mismanagement; gross waste of funds; abuse of authority; or substantial and specific danger to public health or safety, unless disclosure of such information is specifically prohibited by law or such information is specifically required by Executive Order to be kept secret in the interest of national defense or the conduct of foreign affairs.

Retaliation against an employee or applicant for making a protected disclosure is prohibited by 5 U.S.C. 2302(b)(8). If you believe that you have been the victim of whistleblower retaliation, you may file a written complaint (Form OSC-11) with OSC at 1730 M Street NW., Suite 218, Washington, DC 20036-4505 or online through the OSC Web site at http://www.osc.gov.

Retaliation for Engaging in Protected Activity

A Federal agency may not retaliate against an employee or applicant because that individual exercises his or her rights under any of the Federal antidiscrimination or whistleblower protection laws listed in this Notice. If you believe that you are the victim of retaliation for engaging in protected activity, you must follow the procedures described in the Antidiscrimination Laws and Whistleblower Protection Laws sections of this Notice in order to pursue a legal remedy.

Disciplinary Actions

Each agency has the right to discipline a Federal employee for conduct that is inconsistent with Federal antidiscrimination and whistleblower protection laws up to and including removal from the federal service. If OSC has initiated an investigation under 5 U.S.C. 1214, however, according to 5 U.S.C. 1214(f), agencies must seek approval from the Special Counsel to discipline employees for, among other activities, engaging in prohibited retaliation. Nothing in the No FEAR Act alters existing laws or permits an agency to take unfounded disciplinary action against a Federal employee or to violate the procedural rights of a Federal employee who has been accused of discrimination.

Additional Information

For further information regarding the No FEAR Act regulations, please see 5 CFR part 724, and contact the Office of Human Capital at CFPB. Additional information regarding Federal antidiscrimination, whistleblower protection, and retaliation laws can be found on the EEOC Web site at http://www.eeoc.gov, on the OSC Web site at http://www.osc.gov, on the DOL Web site at http://www.dol.gov, and the MSPB Web site at http://www.mspb.gov.

Existing Rights Unchanged

Pursuant to section 205 of the No FEAR Act, neither the Act nor this notice creates, expands or reduces any rights otherwise available to any employee, former employee or applicant under the laws of the United States, including the provisions of law specified in 5 U.S.C. 2302(d).

Dated: January 27, 2012.
Meredith Fuchs,
Chief of Staff.

[FR Doc. 2012-2280 Filed 2-1-12; 8:45 am]

BILLING CODE 4810-AM-P